DEPARTMENT OF AGRICULTURE

Forest Service

Information Collection; Recreation Special Uses and Trail Program Administration

AGENCY: Forest Service, USDA.

ACTION: Notice; request for comment.

SUMMARY: In accordance with the Paperwork Reduction Act of 1995, the Forest Service is seeking comments from all interested individuals and organizations on the addition of two optional appendices and one clause to the information collection: FS-2700-4i—Special Use Permit for Outfitting and Guiding.

DATES: Comments must be received in writing on or before November 4, 2019 to be assured of consideration. Comments received after that date will be considered to the extent practicable.

ADDRESSES: Comments concerning this notice should be addressed to Ben Johnson, National Recreation Special Uses Program Lead, USDA Forest Service, USDA Forest Service, 201 14th Street SW, Washington, DC 20250.

Comments also may be submitted to Ben Johnson at 971-284-1941 or by email at benjamin.c.johnson@usda.gov.

The public may inspect comments received at the USDA Forest Service, 201 14th Street SW, Washington, DC 20250 during normal business hours.

FOR FURTHER INFORMATION CONTACT: Ben Johnson, National Recreation Special Uses Program Lead, at 971-284-1941 OR, or via email at benjamin.c.johnson@usda.gov. Individuals who use telecommunication devices for the deaf (TDD) may call the Federal Relay Service (FRS) at 1-800-877-8339 twenty-four hours a day, every day of the year, including holidays.

SUPPLEMENTARY INFORMATION: Title: Special Use Permit for Outfitting and Guiding Optional Clause and Appendices.

OMB Number: 0596-0082.

Type of Request: Renewal to a currently approved information collection with changes.

Abstract: The change to an approved information collection supports implementation of the National Forest System Trails Stewardship Act of 2016 (the Act) (16 U.S.C. 583k-5). The Act directs the Forest Service to establish a pilot program on not less than 20 forest units to offset all or part of the land use fee for an outfitting and guiding permit by the cost of the work performed by the permit holder to construct, improve, or maintain National Forest System trails, trailheads, or developed sites that support public use. The amended information collection and optional appendices will be the official permit that documents the relationship between the Forest Service and the permit holder.

Forms

FS-2700-4i, Special Use Permit for Outfitting and Guiding. This permit will be amended to include clause A-23. National Forest System Trails Stewardship Act—Fee Offset for Holder-Performed Work. Major headings in the clause are definitions, land use fee offset, and the holder maintenance plan. No new information will be collected.

FS-2700-4i, Appendix H, Annual Stewardship Act Fee Offset Agreement, is a new optional information collection that serves as an amendment to FS-2700-4i. The amendment will only be used if the permit is subject to the National Forest System Trails Stewardship Act fee offset agreement. This information collection asks for the name of the permit holder, the date of the permit, and the total estimated annual land use fee amount. The form also collects information about the agreed upon project/s (including whether the project is construction, improvement, or maintenance), the project completion due date, estimated cost, actual completion date, and actual cost.

FS-2700-4i, Appendix I, Stewardship Act Fee Offset Claim Certification. Information collected includes the National Forest and Ranger District location of the project, the project name, the fiscal year of the planned work, the name of the holder, and the date of the annual Stewardship Act fee offset agreement. Additionally collected, is the itemized costs of the project.

This information is used to manage permits applicable to the National Forest System Trails Stewardship Act fee offset. The information will be collected by Federal employees authorized to issue recreation special use permits for outfitters and guides. The name and contact information of the permit holder will be used to track which holders are participating in the fee offset program. The description of the agreed upon project and the estimated and actual cost of the project will be used to assure compliance with the fee offset program and to track trends and the amount of trail care completed by partners.

Estimate of Annual Burden: 30 minutes.

Type of Respondents: Permit Holders.

Estimated Annual Number of Respondents: 20.

Estimated Annual Number of Responses per Respondent: 1.

Estimated Total Annual Burden on Respondents: 50 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: August 15, 2019.
Richard A. Cooksey,
Acting Associate Deputy Chief, National Forest Systems.

[FR Doc. 2019-19162 Filed 9-4-19; 8:45 am]

BILLING CODE 3411-15-P